FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 15, 2009.

A. Federal Reserve Bank of Kansas City (Dennis Denney, Assistant Vice President) 1 Memorial Drive, Kansas City, Missouri 64198-0001:

1. John Titus, Suzanne Titus, Paula Titus (individually and as trustee of the L.G. Titus Family Trust and the L.G. Titus Marital Trust), Eric Titus, Louis (Ted) Titus, all of Holdrege, Nebraska; and Ann Titus Nelson, Lonsdale, Minnesota; to acquire control of First Holdrege Bancshares, Inc., and thereby indirectly acquire control of The First National Bank of Holdrege, both of Holdrege, Nebraska.

Board of Governors of the Federal Reserve System, November 25, 2009.
Jennifer J. Johnson,
Secretary of the Board.

[FR Doc. E9-28666 Filed 11-30-09; 8:45 am]

BILLING CODE 6210-01-S